ENVIRONMENTAL PROTECTION AGENCY

[ER-FRL-6680-9]

Environmental Impacts Statements; Notice of Availability

AGENCY: Office of Federal Activities, General Information (202) 564-7167 or http://www.epa.gov/compliance/nepa/.

Weekly receipt of Environmental Impact Statements filed 10/30/2006 through 11/03/2006 pursuant to 40 CFR 1506.9

EIS No. 20060452, Draft EIS, AFS, WA, Natapoc Ridge Restoration Project, To Improve Forest Health and Sustainability, and Reduce Wildfire and Hazardous Fuels, Wenatchee River Ranger District, Okanogan-Wenatchee National Forest, Chelan County, WA, Comment Period Ends: 12/26/2006, Contact: Steve Willet 509-548-6977.

EIS No. 20060453, Final EIS, FHW, CA, Willits Freeway Bypass Project, Construction and Operation of a New Segment of U.S. 101, COE Section 404 Permit, NPDES Permit and Endangered Species Act (Incidental Take Permit), City of Willits, Mendocino County, CA, Wait Period Ends: 12/11/2006, Contact: Maiser Khaled 916-498-5020.

EIS No. 20060454, Final EIS, SFW, CA, Orange County Southern Subregion Habitat Conservation Plan (HCP), Implementation, Application for and Incidental Take Permit, Orange County, CA, Wait Period Ends: 12/11/2006, Contact: Vicki Campbell 916-414-6464.

EIS No. 20060455, Draft EIS, WPA, AZ, San Luis Rio Colorado Project, Construct, Operate, Maintain, and Connect a Double-Circuited 500,000-volt Electric Transmission Line, Right-of-Way Grant and Presidential Permit, (DOE/EIS-0395) Yuma County, AZ, Comment Period Ends: 12/26/2006, Contact: Mark J. Wieringa 720-962-7263.

EIS No. 20060456, Final EIS, IBR, CA, Contra Costa Water District Alternative Intake Project, To Protect and Improve the Quality of Water Delivery to Untreated and Treated-Water Customers, Contra Costra County, CA, Wait Period Ends: 12/11/2006, Contact: Katrina Chow 916-978-5067.

EIS No. 20060457, Draft EIS, COE, TX, Brazos Harbor Navigation District Project, Proposed Port Freeport Channel Widening to the Entrance and Jetty Reach of the Freeport Harbor Jetty Channel and Entrance, Brazoria County, TX, Comment Period Ends: 01/09/2007, Contact: Sam Watson 409-766-3946.

EIS No. 20060458, Final EIS, AFS, 00, Custer National Forest Weed Management, To Implement Specific Invasive Weed Treatments, Carbon, Stillwater, Sweetgrass, Park, Powder River, Rosebud and Carter Counties, MT and Harding County, SD, Wait Period Ends: 12/11/2006, Contact: Kim Reid 406-657-6205 Ext 233.

EIS No. 20060459, Final EIS, NPS, SD, Badlands National Park/North Unit General Management Plan, Implementation, Jackson, Pennington and Shananon Counties, SD, Wait Period Ends: 12/11/2006, Contact: Paige Baker 605-433-5281.

EIS No. 20060460, Third Draft Supplement, FHW, VT, Southern Connector/Champlain Parkway Project (MEGC-M5000(1), Updated Information, Construction from Interchange of I-189 to Shelburne Street (US Route &) and Extending westerly and northerly to the City of Center District within the City of Burlington, Chittenden County, VT, Comment Period Ends:12/29/2006, Contact: Kenneth R. Sikora, 802-828-4423.

EIS No. 20060461, Draft EIS, USN, FL, Boca Chica Field, Restoration of Clear Zones and Stormwater Drainage Systems, Implementation, Naval Air Station (NAS) Key West, Monroe County, FL, Comment Period Ends: 01/08/2007, Contact: Agnes Peters 703-604-5421.

EIS No. 20060462, Draft EIS, COE, CA, Cajon Third Main Track, Construction from Summit to Keenbrook, Special Use Permit and U.S. Army COE 404 Permit, San Bernardino County, CA, Comment Period Ends: 01/03/2007, Contact: Susan Meyer 808-438-2137.

EIS No. 20060463, Final EIS, CGD, TX, Beacon Port Deepwater Port License Application, Construction and Operation, Deepwater Port and Offshore Pipeline, U.S. COE Section 404 and 10 Permits, Gulf of Mexico, San Patricio County, TX, Wait Period Ends: 12/11/2006, Contact: Ray Martin 202-372-1449.

EIS No. 20060464, Draft Supplement, AFS, MT, Northeast Yaak Project, Additional Documentation of Cumulative Effects Analysis, Proposed Harvest to Reduce Fuels in Old Growth, Implementation, Kootena National Forest, Three Rivers Ranger District, Lincoln County, MT, Comment Period Ends: 12/26/2006, Contact: Eric Dickinson 406-295-4693.

EIS No. 20060465, Draft EIS, FRC, 00, Rockies Express Western Phase Project, Construction and Operation for the Natural Gas Pipeline Facilities: Rockies Express (CP06-354-000), TransColorado (CP06-401-000) and Overthrust (CP06-423-000), CO, WY, NE, KS, MO and NM, Comment Period Ends: 12/28/2006, Contact: Bryan Lee 1-866-208-3372.

Amended Notices

EIS No. 20060390, Final EIS, FHW, PA, Southern Beltway Transportation Project, Improvement from US-22 in Robinson Township to Interstate 79 in South Fayette Township and Cecil Township, Funding and U.S. Army COE Section 404 Permit, Washington, Allegheny Counties, PA, Wait Period Ends: 11/09/2006, Contact: Karyn E. Vandervoort 717-221-2276. Revision of FR Notice Published 09/29/2006: Correction to Wait Period from 10/30/2006 to 11/09/2006.

Dated: November 6, 2006.
Robert W. Hargrove,
Director, NEPA Compliance Division, Office of Federal Activities.

[FR Doc. E6-19026 Filed 11-8-06; 8:45 am]

BILLING CODE 6560-50-P